DEPARTMENT OF DEFENSE

Office of the Secretary

Defense Science Board

AGENCY: Department of Defense.

ACTION: Notice of Advisory Committee Meeting Cancellations.

SUMMARY: On Thursday, September 11, 2003 (68 FR 53597) the Department of Defense announced closed meetings of the Defense Science Board Task Force on Patriot Systems Performance. The meetings scheduled for January 7-8, 2004, were cancelled.

Dated: January 5, 2004.
Patricia L. Toppings,
Alternate OSD Federal Register Liaison Officer, Department of Defense.

[FR Doc. 04-506 Filed 1-9-04; 8:45 am]

BILLING CODE 5001-06-M